NUCLEAR REGULATORY COMMISSION

[Docket No. 50-400]

Carolina Power & Light Company; Shearon Harris Nuclear Power Plant, Unit 1; Notice of Issuance of Renewed Facility Operating License No. NPF-63 for an Additional 20-Year Period; Record of Decision

Notice is hereby given that the U.S. Nuclear Regulatory Commission (the Commission or NRC) has issued Renewed Facility Operating License No. NPF-63 to the Carolina Power & Light Company (the licensee), now doing business as Progress Energy Carolinas, Inc., the operator of the Shearon Harris Nuclear Power Plant (HNP), Unit 1. Renewed Facility Operating License No. NPF-63 authorizes operation of HNP by the licensee at reactor core power levels not in excess of 2900 megawatts thermal (900 megawatts electric), in accordance with the provisions of the HNP renewed license and its Technical Specifications.

This notice also serves as the record of decision for the renewal of Facility Operating License No. NPF-63 for HNP, consistent with Title 10 of the Code of Federal Regulations (10 CFR) Section 51.103. As discussed in the Final Supplemental Environmental Impact Statement (FSEIS) for HNP, dated August 2008, the Commission considered a range of reasonable alternatives that included generation from coal, natural gas, oil, wind, solar, hydropower, geothermal, wood waste, municipal solid waste, other biomass-derived fuels, delayed retirement, utility-sponsored conservation, a combination of alternatives, and a no-action alternative. The factors considered in the record of decision can be found in the supplemental environmental impact statement for License Renewal, Supplement 33 regarding HNP, Unit 1.

HNP is a pressurized-water reactor designed by the Westinghouse Electric Corporation that is located in Wake County, North Carolina, approximately twenty miles southwest of Raleigh, North Carolina. The application for the renewed license complied with the standards and requirements of the Atomic Energy Act of 1954, as amended (the Act), and the Commission's regulations. As required by the Act and the Commission's regulations in 10 CFR Chapter I, the Commission has made appropriate findings, which are set forth in the license.

Prior public notice of the action involving the proposed issuance of the renewed license and of an opportunity for a hearing regarding the proposed issuance of the renewed license was published in the Federal Register on March 20, 2007 (72 FR 13139). For further details with respect to this action, see (1) The Carolina Power & Light Company, license renewal application for HNP, dated November 14, 2006, as supplemented by letters dated through July 21, 2008; (2) the Commission's Safety Evaluation Report (NUREG-1916 Volumes 1 and 2), published in December 2008; (3) the licensee's updated safety analysis report; and (4) the Commission's FSEIS (NUREG-1437, Supplement 33), published in August 2008. These documents are available at the NRC Public Document Room, One White Flint North, 11555 Rockville Pike, Rockville, Maryland 20852, and can be viewed from the NRC Public Electronic Reading Room at http://www.nrc.gov/reading-rm/adams.html.

Copies of the Renewed Facility Operating License No. NPF-63 may be obtained by writing to the U.S. Nuclear Regulatory Commission, Washington, DC 20555-0001, Attention: Director, Division of License Renewal. Copies of the HNP, Unit 1, Safety Evaluation Report (NUREG-1916 Volumes 1 and 2) and the FSEIS (NUREG-1437, Supplement 33) may be purchased from the National Technical Information Service, U.S. Department of Commerce, Springfield, Virginia 22161-0002 (http://www.ntis.gov), 703-605-6000, or the Superintendent of Documents, U.S. Government Printing Office, P.O. Box 371954, Pittsburgh, Pennsylvania 15250-7954, (http://www.gpoaccess.gov), 202-512-1800. All orders should clearly identify the NRC publication number and the requester's Government Printing Office deposit account number or a VISA or MasterCard number and expiration date.

Dated at Rockville, Maryland, this 17th day of December 2008.
For the Nuclear Regulatory Commission.
Brian E. Holian,
Director, Division of License Renewal, Office of Nuclear Reactor Regulation.

[FR Doc. E8-30477 Filed 12-22-08; 8:45 am]

BILLING CODE 7590-01-P